DEPARTMENT OF DEFENSE

Office of the Secretary

32 CFR Parts 206 and 390

Removal of Parts

AGENCY: Department of Defense.

ACTION: Final rule.

SUMMARY: The Department of Defense is removing 32 CFR parts 206, “National Security Education Program” and “Armed Forces Radiobiology Research Institute”. The parts have served the purpose for which it was codified in the CFR.

DATES: The rule is effective May 9, 2006.

FOR FURTHER INFORMATION CONTACT: L. Bynum, 703-696-4970.

SUPPLEMENTARY INFORMATION: Information on the “National Security Education Program” (DoD Instruction 1025.02) and “Armed Forces Radiobiology Research Institute” (DoD Instruction 5105.33) may be found at http://www.dtic.mil/whs/directives/corres/insl.html.

List of Subjects

32 CFR Part 206

Colleges and universities, Grant programs—education.

32 CFR Part 390

Organization and functions (Government agencies).

PARTS 206 AND 390—[REMOVED]

Accordingly, by the authority of 10 U.S.C. 301, 32 CFR parts 206 and 390 are removed.

Dated: May 3, 2006.
L.M. Bynum,
OSD Federal Register Liaison Officer, Department of Defense.

[FR Doc. 06-4312 Filed 5-8-06; 8:45 am]

BILLING CODE 5001-06-M